DEPARTMENT OF THE INTERIOR

National Park Service

[NPS-PWR-PWRO-0928-8539; 9082-H921-409]

Draft Environmental Impact Statement for General Management Plan/Wilderness Study, Hawaii Volcanoes National Park, Hawaii

AGENCY: National Park Service, Interior.

ACTION: Notice of intent.

SUMMARY: The National Park Service is expanding the scope of the Environmental Impact Statement (EIS) that is being prepared for updating the General Management Plan (GMP) for Hawaii Volcanoes National Park. As part of this conservation planning and environmental impact analysis effort, the Draft EIS will include a wilderness study to determine if any additional portions of the park should be recommended for inclusion in the National Wilderness Preservation System (currently the park contains 130,790 acres of Congressionally designated Wilderness).

SUPPLEMENTARY INFORMATION: This Notice supplements and updates the original Notice of Intent (published in Federal Register on April 13, 2009) which formally announced initiation of the GMP update effort. The scope of the EIS is expanded to include an evaluation of foreseeable effects associated with possible designation of additional wilderness within Hawaii Volcanoes National Park. The new GMP will establish the overall direction for the park, setting broad management goals for managing the area over the next 15 to 20 years. The GMP will prescribe desired resource conditions and visitor experiences that are to be achieved and maintained throughout the park. Based on the desired conditions, the GMP will outline what resource management and visitor activities, and what limited development, would be appropriate in the park. Among the topics that have been addressed thus far are preservation and protection of native ecosystems and the park's natural and cultural resources; significance of park resources to Native Hawaiian culture; visitor experiences including use of facilities and participation in activities and programs; access to lava for visitors and researchers; current wilderness management issues; transportation, roads and parking; commercial services and special park uses; park operations, partnerships, and collaboration; and the future of the Kahuku Unit. A reasonable range of alternatives for managing the park, including “no-action” and “agency preferred” alternatives will be developed through the planning process and analyzed in the EIS. The EIS will evaluate the potential environmental impacts of all alternatives, address appropriate mitigation strategies, and identify an “environmentally preferred” alternative.

Comments: To facilitate sound planning and analysis of foreseeable environmental effects, Hawaii Volcanoes National Park is gathering additional information relevant to preparing the Draft EIS. The park is also soliciting suggestions from the public on issues that should be addressed in the wilderness study, and comments on the range of preliminary GMP alternatives under consideration. In concert with local, state, Tribal, and other federal agencies, consideration will also be made for cooperative management of resources outside park boundaries that affect the integrity of the park. Thoughtful comments and participation in this scoping process are desired. You are encouraged to submit your comments directly online through the NPS Planning, Environment and Public Comment Web site at: http://parkplanning.nps.gov/havo (select the GMP/Wilderness Study from the list of projects). Or if you prefer to do so, you may send written responses to: Cindy Orlando, Superintendent, Attn: General Management Planning Team, Hawaii Volcanoes National Park, P.O. Box 52, Hawaii National Park, HI 96718-0052.

All written comments on the GMP/Wilderness Study must be postmarked, hand delivered, or electronically transmitted not later than January 3, 2012. Immediately upon confirmation of this date an update will be posted on the project Web site. Before including your address, phone number, email address, or other personal identifying information in your comment, you should be aware that your entire comment—including your personal identifying information—may be made publicly available at any time. While you can ask us in your comment to withhold your personal identifying information from public review, we cannot guarantee that we will be able to do so.

In April 2009, seven public scoping sessions were held on the island of Hawaii (including Volcano, Hilo, Naalehu, Kailua-Kona), on Oahu (Honolulu), and on Maui (Kahului). Additional meetings were held in August 2011 to provide a planning update that presented preliminary alternatives and addressed what would be considered in the wilderness study component. All persons who previously submitted comments during the initial GMP scoping process need not resubmit their comments. However, persons who have not previously submitted comments related to wilderness, or who wish to submit any new information or comments related to the range of preliminary alternatives are encouraged to do so.

The GMP project Web site http://www.nps.gov/havo/parkmgmt/plan.htm will provide regularly up-dated information regarding the project, including planning process milestones, meeting notices, reports and documents, and useful links associated with the EIS process.

The conservation planning and environmental impact analysis supporting preparation of the GMP/Wilderness Study will be conducted as described above, in accord with Council on Environmental Quality requirements and other appropriate Federal regulations, and NPS Director's Order 12, 2006 Management Policies pertaining to wilderness, and other NPS procedures and policies. For further information, please contact: Cindy Orlando, Superintendent, Hawaii Volcanoes National Park (contact information as noted above). General information about Hawaii Volcanoes National Park is available at http://www.nps.gov/havo.

Decision Process: Following the completion of the scoping phase and consideration of all public concerns and other agency comments, a Draft EIS, wilderness study, and proposed GMP will be prepared and released for public review. Thereafter, the availability of the Final EIS/GMP would be similarly announced in the Federal Register and via local and regional news media. As a delegated EIS, the official responsible for the final decision on the GMP is the Regional Director, Pacific West Region, National Park Service. Following approval of the GMP the official responsible for implementation would be the Superintendent, Hawaii Volcanoes National Park.

Dated: November 3, 2011.
John H. Williams,
Acting Regional Director, Pacific West Region.

[FR Doc. 2011-31040 Filed 12-1-11; 8:45 am]

BILLING CODE 4310-KV-P